SMALL BUSINESS ADMINISTRATION

[Disaster Declaration #15291 and #15292; TEXAS Disaster Number TX-00488]

Presidential Declaration Amendment of a Major Disaster for Public Assistance Only for the State of Texas

AGENCY: U.S. Small Business Administration.

ACTION: Amendment 4.

SUMMARY: This is an amendment of the Presidential declaration of a major disaster for Public Assistance Only for the State of Texas (FEMA-4332-DR), dated 09/04/2017.

Incident: Hurricane Harvey.

Incident Period: 08/23/2017 through 09/15/2017.

DATES: Issued on 10/11/2017.

Physical Loan Application Deadline Date: 11/03/2017.

Economic Injury (EIDL) Loan Application Deadline Date: 06/04/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of TEXAS, dated 09/04/2017, is hereby amended to include the following areas as adversely affected by the disaster.

Primary Counties: Caldwell, Comal, Dewitt, Gonzales, Guadalupe, Jim Wells, Lavaca, Milam, Sabine, San Augustine

All other information in the original declaration remains unchanged.

(Catalog of Federal Domestic Assistance Number 59008)

James E. Rivera,
Associate Administrator for Disaster Assistance.

[FR Doc. 2017-22809 Filed 10-19-17; 8:45 am]

BILLING CODE 8025-01-P